DEPARTMENT OF AGRICULTURE

Rural Business-Cooperative Service

[Docket #: RBS-22-BUSINESS-0029]

Notice of Processing Timeline Change for the Rural Energy for America Program for Fiscal Year 2024

AGENCY: Rural Business-Cooperative Service, USDA.

ACTION: Notice.

SUMMARY: The Rural Business- Cooperative Service (the Agency) is issuing a notice of the Agency's intention to remove the self-imposed restriction that all Fiscal Year (FY) 2024 applications that are submitted under the Rural Energy for America Program (REAP) prior to June 30, 2024, and were not funded in the national unrestricted pooling competitions, must be withdrawn. The Agency is also updating its approach for application reviews. This Notice also outlines the Agency's prioritization of Underutilized Renewable Energy Technologies (UT) in National Office competitions for FY 2024.

DATES: Applicable July 15, 2024.

ADDRESSES: You are encouraged to contact your United States Department of Agriculture (USDA) Rural Development (RD) State Energy Coordinator well in advance of the application deadline to discuss your project and ask any questions about the application process. Contact information for State Office Energy Coordinators can be found at www.rd.usda.gov/files/RBS_StateEnergyCoordinators.pdf.

Program guidance and application forms may be obtained at www.rd.usda.gov/programs-services/all-programs/energy-programs. To submit an electronic application via grants.gov, follow the instructions for the REAP funding announcement located at www.grants.gov.

FOR FURTHER INFORMATION CONTACT: Jonathan Burns, Program Management Division, Rural Business-Cooperative Service, United States Department of Agriculture, 774-678-7238 or email CPgrants@usda.gov.

SUPPLEMENTARY INFORMATION:

Extension for REAP FY 2024 Applications

The Agency published two funding opportunity notices and a correction notice in the Federal Register for REAP for Fiscal Years 2023 and 2024. The first funding notice was published December 16, 2022 (87 FR 77059). The second funding notice was published March 31, 2023 (88 FR 19239), and the correction notice was published May 31, 2023 (88 FR 34823). The second funding notice and the correction notice are applicable to applications received on or after April 1, 2023 (FY 2024). The two notices state that obligations will take place through September 30, 2024, and complete and eligible applications which were not funded in the national unrestricted pooling must be withdrawn.

Due to the continued overwhelming response of the funding opportunity, the Agency continues to experience longer than anticipated turnaround times. The Agency recognizes this may negatively affect applicants and, to provide equitable treatment, the self-imposed deadline on the national unrestricted pooling competitions for FY 2024 will be extended. The Agency will continue processing FY 2024 applications, those received through June 30, 2024, until December 31, 2024. Unlike many prior years, National Office pooling of Unrestricted Funding is estimated to occur within the first quarter of the 2025 calendar year.

Applications received by June 30, 2024, that remain incomplete on January 1, 2025, will be withdrawn. Unfunded applications from the national competitions will not be moved into the FY 2025 funding cycle and must be withdrawn. Those applicants may submit a new application to compete in FY 2025 competition(s) if they have not already started their project or incurred project costs.

Agency Approach for Application Reviews

To maximize efficiency and address the backlog of applications, the Agency will use the following processing procedures effective on the publication date of this Notice.

Completeness Application Review

If an application does not meet the definition of complete application, according to 7 CFR 4280.103, the Agency will send a notification identifying those parts of the application that are incomplete and no further action will be taken on the application.

The Agency will give 15 business days for applicants to provide the missing documentation. The application will be withdrawn, and the applicant notified if the required documentation is not received within the 15 business days or if the information submitted by the deadline is insufficient.

Application processing will continue if all documentation is received timely and is sufficient to meet the definition of a complete application.

Eligibility Review for Complete Applications

The Agency will review for applicant and project eligibility and financial and technical feasibility. If the Agency requires additional clarification or documentation, the Agency will send a notification and give 15 business days for the applicant to provide the information.

The application will be withdrawn, and the applicant notified if the required information is not received within the 15 business days or if the information submitted by the deadline is insufficient.

Application processing will continue if all information is received timely and is sufficient for determining applicant and project eligibility. The applicant will then receive a notification of the eligibility review outcome.

Prioritization of Underutilized Renewable Energy Technologies (UT)

To carry out the Inflation Reduction Act's intention to have set aside competition for UT, the Agency anticipates holding National Office competitions, exclusively for projects proposing the use of UT. These National Office competitions are anticipated to be held through the end of FY 2024, as needed.

In addition, the FY 2024 National Office Unrestricted pooled competition will first consider funding project proposing the use of UT in accordance with the March 31, 2023, REAP NOSA (88 FR 19239). This Unrestricted National Office pooled competition is anticipated to be held within the first quarter of calendar year 2025.

Kathryn E. Dirksen Londrigan,
Administrator, Rural Business-Cooperative Service.

[FR Doc. 2024-15426 Filed 7-12-24; 8:45 am]

BILLING CODE 3410-XY-P